DEPARTMENT OF HOUSING AND URBAN DEVELOPMENT

[Docket No. FR-4971-N-17]

Notice of Submission of Proposed Information Collection to OMB; Emergency Comment Request; Grant Application for Public Housing Graduation Incentive Bonus

AGENCY: Office of Chief Information Officer, HUD.

ACTION: Notice of proposed information collection.

SUMMARY: The proposed information collection requirement described below has been submitted to the Office of Management and Budget (OMB) for emergency review and approval, as required by the Paperwork Reduction Act. The Department is soliciting public comments on the subject proposal.

This is a request for a new information collection that will be used to select awardees for the Graduation Incentive Bonus program grants that will be part of the 2005 Notice of Funding Availability.

Congress has authorized this Graduation Incentive Bonus funding as a set aside from the 2005 Public Housing Operating Fund allocation. Funds can be used for any and all operating expenses approved under section 9 of the United States Housing Act of 1937 and 24 CFR part 990.

DATES: Comments Due Date: April 27, 2005.

ADDRESSES: Interested persons are invited to submit comments regarding this proposal. Comments must be received within seven (30) days from the date of this notice. Comments should refer to the proposal by name and should be sent to: HUD Desk Officer, Office of Management and Regulatory Affairs, Office of Management and Budget, New Executive Office Building, Washington, DC 20503.

FOR FURTHER INFORMATION CONTACT: Wayne Eddins, Paperwork Reduction Act Compliance Officer, AYO, Department of Housing and Urban Development, 451 Seventh Street, SW., Washington, DC 20410; e-mail Wayne_Eddins@HUD.gov; telephone (202) 708-2374. This is not a toll-free number. Copies of documentation submitted to OMB may be obtained from Mr. Eddins.

SUPPLEMENTARY INFORMATION: This Notice informs the public that the U.S. Department of Housing and Urban Development (HUD) has submitted to OMB, for emergency processing, a proposed information collection requirement as described below. This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This notice also lists the following information:

Title Of Proposal: Public Housing Graduation Incentive Bonus.

Description Of Information Collection: This is a new information collection for selecting applicants for the Public Housing Graduation Incentive Bonus program grants, which will be part of the 2005 Notice of Funding Availability (NOFA).

Congress has authorized this Graduation Incentive Bonus funding as a set aside from the 2005 Public Housing Operating Fund allocation. Funds can be used for any and all operating expenses approved under section 9 of the United States Housing Act of 1937 and 24 CFR part 990.

OMB Control Number: To be assigned.

Agency Form Numbers: Standard grant application form SF 424.

Members of Affected Public: Public Housing Authorities (PHAs).

Estimation of the Total Numbers of Hours Needed to Prepare the Information Collection Including Number of Respondents, Frequency of Responses, and Hours of Response: An estimation of the total number of hours needed to prepare the information collection is 0.75 hours per applicant. The estimated number of respondents is 277. The frequency of response is once per annum. The total public burden is estimated to be 208 hours.

Status: Proposed new collection.

Authority: The Paperwork Reduction Act of 1995, 44 U.S.C. Chapter 35, as amended.

Dated: March 22, 2005.
Wayne Eddins,
Departmental Paperwork Reduction Act Officer, Office of the Chief Information Officer.

[FR Doc. E5-1372 Filed 3-25-05; 8:45 am]

BILLING CODE 4210-72-P